DEPARTMENT OF COMMERCE

International Trade Administration

[C-580-851]

Notice of Countervailing Duty Order: Dynamic Random Access Memory Semiconductors from the Republic of Korea

AGENCY: Import Administration, International Trade Administration, Department of Commerce.

EFFECTIVE DATE: August 11, 2003.

FOR FURTHER INFORMATION CONTACT: Ryan Langan, Jesse Cortes, or Daniel J. Alexy, Office of Antidumping/Countervailing Duty Enforcement, Group 1, Import Administration, U.S. Department of Commerce, Room 3099, 14th Street and Constitution Avenue, NW., Washington, D.C. 20230; telephone (202) 482-2613, (202) 482-3986, and (202) 482-1540, respectively.

Scope of Order

The products covered by this order are dynamic random access memory semiconductors (“DRAMS”) from the Republic of Korea (“ROK”), whether assembled or unassembled. Assembled DRAMS include all package types. Unassembled DRAMS include processed wafers, uncut die, and cut die. Processed wafers fabricated in the ROK, but assembled into finished semiconductors outside the ROK are also included in the scope. Processed wafers fabricated outside the ROK and assembled into finished semiconductors in the ROK are not included in the scope.

The scope of this order additionally includes memory modules containing DRAMS from the ROK. A memory module is a collection of DRAMS, the sole function of which is memory. Memory modules include single in-line processing modules, single in-line memory modules, dual in-line memory modules, small outline dual in-line memory modules, Rambus in-line memory modules, and memory cards or other collections of DRAMS, whether unmounted or mounted on a circuit board. Modules that contain other parts that are needed to support the function of memory are covered. Only those modules that contain additional items which alter the function of the module to something other than memory, such as video graphics adapter boards and cards, are not included in the scope. This order also covers future DRAMS module types.

The scope of this order additionally includes, but is not limited to, video random access memory and synchronous graphics random access memory, as well as various types of DRAMS, including fast page-mode, extended data-out, burst extended data-out, synchronous dynamic RAM, Rambus DRAM, and Double Data Rate DRAM. The scope also includes any future density, packaging, or assembling of DRAMS. Also included in the scope of this order are removable memory modules placed on motherboards, with or without a central processing unit, unless the importer of the motherboards certifies with the U.S. Bureau of Customs and Border Protection (“Customs”) that neither it, nor a party related to it or under contract to it, will remove the modules from the motherboards after importation. The scope of this order does not include DRAMS or memory modules that are re-imported for repair or replacement.

The DRAMS subject to this order are currently classifiable under subheadings 8542.21.8005 and 8542.21.8021 through 8542.21.8029 of the Harmonized Tariff Schedule of the United States (“HTSUS”). The memory modules containing DRAMS from the ROK, described above, are currently classifiable under subheadings 8473.30.10.40 or 8473.30.10.80 of the HTSUS. Removable memory modules placed on motherboards are classifiable under subheading 8471.50.0085. Although the HTSUS subheadings are provided for convenience and customs purposes, the Department's written description of the scope of this order remains dispositive.

Countervailing Duty Order

On July 28, 2003, the Department published in the Federal Register (68 FR 44290), its “Notice of Amended Final Affirmative Countervailing Duty Determination: Dynamic Random Access Memory Semiconductors from the Republic of Korea” in which the final countervailing duty rate for Hynix Semiconductor, Inc. and the “all others” rate were revised. The revised rates are listed below. The finding that Samsung Electronics Co., Ltd. (“SEC”) received de minimis subsidies did not change.

On August 4, 2003, in accordance with section 705(d) of the Tariff Act of 1930, as amended by the Uruguay Round Agreements Act effective January 1, 1995 (“the Act”), the U.S. International Trade Commission (“ITC”) notified the Department that a U.S. industry is “materially injured,” within the meaning of section 705(b)(1)(A) of the Act, by reason of imports of DRAMS from the Republic of Korea.

Therefore, in accordance with section 706(a)(3) of the Act, the Department will direct Customs to assess countervailing duties for all relevant entries of DRAMS from the ROK. For all producers and exporters of DRAMS from the ROK, except for SEC, which is excluded from this countervailing duty order, countervailing duties will be assessed on all unliquidated entries of the subject merchandise that are entered, or withdrawn from warehouse, for consumption on or after April 7, 2003, the date on which the Department published its notice of affirmative preliminary determination in the Federal Register.

On or after the date of publication of this notice in the Federal Register, Customs officers must require, at the same time as importers would normally deposit estimated duties, a cash deposit equal to the net subsidy rate, as noted below. The “All Others” rate applies to all ROK exporters of subject merchandise not specifically listed, except for SEC, which is excluded from this countervailing duty order. The cash deposit rates are as follows:

Producer/Exporter | Net Subsidy Rate
Hynix Semiconductor Inc. (formerly, Hyundai Electronics Industries Co., Ltd.) | 44.29 percent
All Others44.29 percent

This notice constitutes the countervailing duty order with respect to DRAMS from the ROK, pursuant to section 706(a) of the Act. Interested parties may contact the Central Records Unit, Room B-099 of the main Commerce Building, for copies of an updated list of countervailing duty orders currently in effect.

These countervailing duty orders are published in accordance with sections 706(a) and 777(i) of the Act and 19 CFR 351.211.

Dated: August 5, 2003.
Joseph A. Spetrini,
Acting Assistant Secretary for Grant Aldonas, Under Secretary.

[FR Doc. 03-20421 Filed 8-8-03; 8:45 am]

BILLING CODE 3510-DS-S